DEPARTMENT OF THE INTERIOR

Bureau of Land Management

[LLWO310000.L13100000.PP0000.18X; OMB Control Number 1004-0162]

Agency Information Collection Activities; Onshore Oil and Gas Geophysical Exploration

AGENCY: Bureau of Land Management, Interior.

ACTION: Notice of information collection; request for comment.

SUMMARY: In accordance with the Paperwork Reduction Act of 1995, we, the Bureau of Land Management (BLM), are proposing to renew an information collection with revisions.

DATES: Interested persons are invited to submit comments on or before May 1, 2018.

ADDRESSES: Send your comments on this information collection request (ICR) by mail to the U.S. Department of the Interior, Bureau of Land Management, 1849 C Street NW, Room 2134LM, Washington, DC 20240, Attention: Jean Sonneman; by email to jesonnem@blm.gov. Please reference OMB Control Number 1004-0162 in the subject line of your comments.

FOR FURTHER INFORMATION CONTACT: To request additional information about this ICR, contact Jennifer Spencer by email at j35spenc@blm.gov, or by telephone at 202-912-7146.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This information collection pertains to onshore oil and gas geophysical exploration on Federal lands. Surface-disturbing activities associated with such exploration generally are regulated by the Bureau of Land Management (BLM) or by the U.S. Forest Service (FS), depending on which agency manages the surface estate. This information collection request also includes permits for oil and gas geophysical exploration on Federal lands other than those managed by the BLM or the Forest Service when an agency of the Department of Defense refers an application for exploration to the BLM (see 43 CFR 3153.1); or when an application for exploration involves a project that would cross lands managed by the Bureau of Reclamation. The BLM and FS need the information in order to manage surface operations that are under their respective jurisdictions.

Title of Collection: Onshore Oil and Gas Geophysical Exploration.

OMB Control Number: 1004-0162.

Form Numbers: BLM Forms 3150-4 and 3150-5; FS Forms 2800-16 and 2800-16a.

Type of Review: Revision of a currently approved collection.

Respondents/Affected Public: Those who wish to participate in the evaluation, development, and utilization of oil and gas resources for mineral potential.

Total Estimated Number of Annual Respondents: 23.

Total Estimated Number of Annual Responses: 23.

Estimated Completion Time per Response: Varies from 20 minutes to 1 hour, depending on activity.

Total Estimated Number of Annual Burden Hours: 17.67.

Respondent's Obligation: Required to obtain or retain a benefit.

Frequency of Collection: On occasion.

Total Estimated Annual Nonhour Burden Cost: $25.

Type of response | Number of responses | Time per response | Total hours (column B × column C)
A. | B. | C. | D.
Notice of Intent and Request to Conduct Geophysical Exploration Operations/Outside Alaska 43 CFR 3151.1 BLM Form 3150-4/FS Form 2800-16 | 13 (10 to BLM and 3 to FS) | 1 hour | 13
Notice of Intent and Request to Conduct Geophysical Exploration Operations/Alaska 43 CFR 3152.1, 3152.3, 3152.4, and 3152.5 BLM Form 3150-4 | 1 | 1 hour | 1
Notice of Completion of Geophysical Exploration Operations 43 CFR 3151.2 and 3152.7 BLM Form 3150-5/FS Form 2800-16a | 8 (8 to BLM and 0 to FS) | 20 minutes | 2.67
Data and Information Obtained in Carrying Out Exploration Plan (Alaska only) 43 CFR 3152.6 | 1 | 1 hour | 1
Totals | 23 |  | 17.67

An agency may not conduct or sponsor and a person is not required to respond to a collection of information unless it displays a currently valid OMB control number.

The authority for this action is the Paperwork Reduction Act of 1995 (44 U.S.C. 3501 et seq.).

Jean Sonneman,
Information Collection Clearance Officer, Bureau of Land Management.

[FR Doc. 2018-04218 Filed 3-1-18; 8:45 am]

BILLING CODE 4310-84-P